DEPARTMENT OF THE INTERIOR

Bureau of Land Management

[20XL1109AF LLUTG02000 L12200000.PM0000 241A]

Call for Nominations for the San Rafael Swell Recreation Area Advisory Council

AGENCY: Bureau of Land Management, Interior.

ACTION: Notice of call for nominations.

SUMMARY: The Bureau of Land Management (BLM) is publishing this notice in accordance with the Federal Land Policy and Management Act (FLPMA), the Federal Advisory Committee Act (FACA), and the John D. Dingell, Jr. Conservation, Management, and Recreation Act. The BLM gives notice that the Secretary of the Interior is establishing the San Rafael Swell Recreation Area (Recreation Area) Advisory Council (Council) and seeking nominations for individuals to be considered as Council members.

DATES: A completed nomination form and accompanying nomination/recommendation letters must be received by February 27, 2020.

ADDRESSES: Send nominations to Christopher Conrad, BLM Price Field Office Manager, 125 South 600 West, Price, Utah 84501, Attention: San Rafael Swell Advisory Council Nominations.

FOR FURTHER INFORMATION CONTACT: Contact Jonathan Moor, Public Affairs Specialist, Green River District, 170 South 500 East, Vernal, UT 84078, phone (435) 781-2774, or email: jmoor@blm.gov.

SUPPLEMENTARY INFORMATION: The John D. Dingell, Jr. Conservation, Management, and Recreation Act, Section 1223, directs the Secretary of the Interior to establish a seven-member citizen-based advisory council that is regulated by FACA (5 U.S.C. Appendix 2) and section 309 of the FLPMA. The BLM rules governing advisory committees are found at 43 CFR subpart 1784.

The Council shall advise the Secretary with respect to the preparation and implementation of the management plan for the Recreation Area.

The Council will include seven members to be appointed by the Secretary of the Interior as follows:

(1) A representative of the Emery County Commission;

(2) A representative of motorized recreational users;

(3) A representative of non-motorized recreational users;

(4) A representative of grazing allotment permittees within the Recreation Area or wilderness areas designated;

(5) A representative of conservation organizations;

(6) A representative with expertise in the historical uses of the Recreation Area; and

(7) An elected leader of a federally recognized tribe that has significant cultural or historical connections to, and expertise in, the landscape, archeological sites, or cultural sites within the County.

Members will be appointed to the Council to serve three-year staggered terms.

Nominating Potential Members: Nomination forms may be obtained from the Price Field Office, (address listed above) or https://www.blm.gov/get-involved/resource-advisory-council/near-you/Utah. All nominations must include a completed Resource Advisory Council application (OMB Control No. 1004-0204), letters of reference from the represented interests or organizations, and any other information that speaks to the candidate's qualifications.

The specific category the nominee would be representing should be identified in the letter of nomination and on the application form.

Members of the Council serve without compensation. However, while away from their homes or regular places of business, Council members engaged in Council business may be allowed travel expenses, including per diem in lieu of subsistence, as authorized by 5 U.S.C. 5703, in the same manner as persons employed intermittently in Federal Government service.

The Council will meet approximately two to four times annually, and at such other times as designated by the Designated Federal Officer.

Authority: 43 CFR 1784.4-1.

William Perry Pendley,
Deputy Director, Policy and Programs, Exercising the Authority of the Director.

[FR Doc. 2020-01441 Filed 1-27-20; 8:45 am]

BILLING CODE 4310-DQ-P